DEPARTMENT OF TRANSPORTATION

Federal Railroad Administration

[Docket No. FRA-2025-0063]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before February 2, 2026.

ADDRESSES: Written comments and recommendations for the proposed ICR should be submitted on www.regulations.gov to Docket No. FRA-2025-0063. All comments received will be posted without change to the docket, including any personal information provided. Please refer to the assigned OMB control number (2130-0586) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Bridge Safety Standards.

OMB Control Number: 2130-0586.¹

¹ The burden associated with § 214.105(c)(4), formerly covered under OMB Control No. 2130-0535, is now combined with the burden under OMB Control No. 2130-0586.

Abstract: Section 11405, “Bridge Inspection Reports,” of the Fixing America's Surface Transportation Act (FAST Act) (Pub. L. 114-94, Dec. 4, 2015) provides a means for a State or a political subdivision of a State to obtain a public version of a bridge inspection report generated by a railroad for a bridge located within its respective jurisdiction. While the FAST Act specifies that requests for such reports are to be filed with the Secretary of Transportation, the responsibility for fulfilling these requests is delegated to FRA.² FRA developed a form titled “Bridge Inspection Report Public Version Request Form” (FRA F 6180.167) to facilitate such requests by States and their political subdivisions.

² 49 CFR 1.89(a).

The collection of information set forth under 49 CFR part 237 normalized and established Federal requirements for railroad bridges.³ In particular, the collection of information is used by FRA to confirm that track owners adopt and implement bridge management programs to inspect, maintain, modify, and repair properly all bridges that carry trains for which they are responsible. Track owners must conduct annual inspections of railroad bridges, as well as special inspections that must be carried out if natural or accidental events cause conditions that warrant such inspections.

³ 75 FR 41281 (July 15, 2010).

Further, track owners must incorporate provisions for internal audits into their bridge management programs and must conduct internal audits of bridge inspection reports. FRA uses the information collected to ensure that track owners meet Federal standards for bridge safety and comply with all the requirements of part 237.

In addition, the collection of information set forth under 49 CFR 214.105(c) establishes standards and practices for bridge worker safety net systems. Safety nets and net installations must be drop-tested at the job site after initial installation and before being used as a fall-protection system, after major repairs, and at 6-month intervals if left at one site. If a drop-test is not feasible and is not performed, then the railroad or railroad contractor, or a designated certified person, must provide written certification the net complies with the safety standards under § 214.105. FRA and State inspectors use this information to enforce Federal regulations. The information maintained at the job site promotes safe bridge worker practices while providing flexibility at bridge work job sites.

In this 60-day notice, FRA makes no changes to the previously approved burden hours or responses.

Type of Request: Extension without change of a currently approved collection.

Affected Public: Businesses (railroads and track owners), States, the District of Columbia (DC), and political subdivisions of States.

Form(s): FRA F 6180.167.

Respondent Universe: 784 track owners, 50 States and DC, and 200 political subdivisions of States.

Frequency of Submission: On occasion and annual.

Reporting Burden:

⁴ The dollar equivalent cost is derived from the 2023 Surface Transportation Board Full Year Wage A&B data series using employee group 200 (Professional Administrative Staff) hourly wage rate of $50.93. The total burden wage rate (straight time plus 75%) used in the table is $89.13 ($50.93 × 1.75 = $89.13).

⁵ For State respondents, the dollar equivalent cost is derived from the May 2024 Bureau of Labor Statistics (BLS) data for management occupations, NAICS 99920—State Government, excluding schools and hospitals, for State government employees. To calculate the total burdened wage rate, FRA multiplied the hourly mean wage rate of $58.14 by 75 percent for overhead costs ($58.14 per hour * 1.75 = $101.75).

⁶ Totals may not add due to rounding.

Section | Respondent universe | Total annual responses | Average time per response | Total annual burden hours | Wage rate ⁴ | Total annual dollar cost equivalent
|  | (A) | (B) | (C) = A * B |  | (D) = C * wage rates
FAST Act, Section 11405
—Written request or filing of Form FRA F 6180.167 “Bridge Inspection Report Public Version Request Form” by State or a political subdivision of a State | 50 States and DC and 200 State political subdivisions | 50 forms | 5 minutes | 4.17 | ⁵ $101.75 | $424.40
FAST Act, Section 11405—Submission of public version of bridge inspection report from railroads to FRA | 754 railroads | 47 reports | 1 hour | 47 | 89.13 | 4,189.11
214.105 Fall protection systems standards and practices
—(c)(4) Safety net systems certification records | 754 railroads | 3 certification records | 5 minutes | 0.25 | 89.13 | 22.28
237.3 Responsibility for compliance
—(b) Notifications to FRA of assignment of bridge responsibility and signed statement by assignee concerning bridge responsibility | 784 track owners | 10 notifications | 2 hours | 20 | 89.13 | 1,782.60
237.9 Waivers
—Waiver petitions | 784 track owners | 0.33 petitions | 4 hours | 1.32 | 89.13 | 117.65
237.31 Adoption of bridge management programs
—Existing and new track owners bridge management program | 784 track owners | 15 programs | 24 hours | 360 | 89.13 | 32,086.80
237.57 Designation of individuals
—Designation of qualified railroad bridge engineers, inspectors, and supervisors | 784 track owners | 200 records | 15 minutes | 50 | 89.13 | 4,456.50
237.73 Protection of bridges from over-weight and over-dimension loads
237.73—Protection of bridges from over-weight and over-dimension loads—Issuance of instructions to railroad personnel by track owner | 784 track owners | 100 written instructions | 2 hours | 200 | 89.13 | 17,826.00
237.109 Bridge inspection records
—Bridge inspection reports and records, including deficient condition reports | 784 track owners | 100,000 inspection reports and records | 15 minutes | 25,000 | 89.13 | 2,228,250.00
237.111 Review of bridge inspection reports
—Bridge engineer and supervisor review of bridge inspection reports | 784 track owners | 100,000 reviews | 5 minutes | 8,333.33 | 89.13 | 742,749.70
237.155 Documents and records
237.155—Documents & records—Establishment of information technology security systems for electronic recordkeeping | 784 track owners | 5 electronic recordkeeping systems | 80 hours | 400 | 89.13 | 35,652.00
—(a)(4) Training of track owner's employees who use the system on the proper use of the electronic recordkeeping system | 784 track owners | 50 training records | 4 hours | 200 | 89.13 | 17,826.00
Total ⁶ | 784 track owners, 50 States and DC, and 200 political subdivisions | 200,480 responses |  | 34,616 |  | 3,085,383.04

Total Estimated Annual Responses: 200,480.

Total Estimated Annual Burden: 34,616 hours.

Total Estimated Annual Burden Hour Dollar Cost Equivalent: $3,085,383.04.

FRA informs all interested parties that it may not conduct or sponsor, and a respondent is not required to respond to, a collection of information that does not display a currently valid OMB control number.

Authority: 44 U.S.C. 3501-3520.

Christopher S. Van Nostrand,
Deputy Chief Counsel.

[FR Doc. 2025-21841 Filed 12-2-25; 8:45 am]

BILLING CODE 4910-06-P